DEPARTMENT OF COMMERCE

International Trade Administration

Environmental Technologies Trade Advisory Committee (ETTAC) Public Meeting

AGENCY: International Trade Administration, DOC.

ACTION: Notice of Federal Advisory Committee Meeting.

SUMMARY: This notice sets forth the schedule and proposed agenda of a meeting of the Environmental Technologies Trade Advisory Committee (ETTAC).

DATES: The meeting is scheduled for Tuesday, July 18, 2017 from 8:30 a.m.-3:30 p.m. Eastern Daylight Time (EDT). The deadline for members of the public to register or to submit written comments for dissemination prior to the meeting is 5:00 p.m. EDT on Friday, July 7, 2017. The deadline for members of the public request auxiliary aids is 5:00 p.m. EDT on Tuesday, July 11, 2017.

ADDRESSES: The meeting will be held in room 6057-59 at the U.S. Department of Commerce, Herbert Clark Hoover Building, 1401 Constitution Avenue NW., Washington, DC 20230. The address to register, submit comments, or request auxiliary aids is: Ms. Amy Kreps, Office of Energy & Environmental Industries (OEEI), International Trade Administration, Room 28018, 1401 Constitution Avenue NW., Washington, DC 20230 or email: amy.kreps@trade.gov.

FOR FURTHER INFORMATION CONTACT: Ms. Amy Kreps, Office of Energy & Environmental Industries (OEEI), International Trade Administration, Room 28018, 1401 Constitution Avenue NW., Washington, DC 20230 (Phone: 202-482-3835; Fax: 202-482-5665; email: amy.kreps@trade.gov.)

SUPPLEMENTARY INFORMATION:

The meeting will take place on July 18 from 8:30 a.m. to 3:30 p.m. Eastern Daylight Time (EDT). The general meeting is open to the public and time will be permitted for public comment from 3:00-3:30 p.m. EDT. All guests are required to register in advance. Those interested in attending must provide notification by Friday, July 7, 2017 at 5:00 p.m. EDT, via the contact information provided above. This meeting is physically accessible to people with disabilities. Requests for sign language interpretation or other auxiliary aids should be directed to OEEI at (202) 482-5225 no less than one week prior to the meeting. Last minute requests will be accepted, but may not be possible to fill.

Written comments concerning ETTAC affairs are welcome any time before or after the meeting. To be considered during the meeting, written comments must be received by Friday, July 7, 2017 at 5:00 p.m. EDT to ensure transmission to the members before the meeting. Minutes will be available within 30 days of this meeting.

Topic To Be Considered: The agenda for the July 18, 2017 meeting includes a roundtable briefing and discussion with the U.S. interagency Trade Promotion Coordinating Committee (TPCC) Environmental Technology Working Group, which includes the Departments of State and Energy as well as the Environmental Protection Agency and others. Also during the meeting, the three ETTAC subcommittees will review their top priorities and objectives for the charter, including optimizing the U.S. Government's trade promotion programs, identifying market access barriers and pros and cons of existing trade agreements, and discussing procurement policy, including issues with financing mechanisms, localization and non-tariff barriers. The subcommittees are: Trade and Export Market Development, Professional Services and Infrastructure Advancement, and Trade Policy and American Competitiveness.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was originally chartered in May of 1994. It was most recently re-chartered until August 2018.

Dated: June 13, 2017.
Edward A. O'Malley,
Director, Office of Energy and Environmental Industries.

[FR Doc. 2017-12758 Filed 6-19-17; 8:45 am]

BILLING CODE 3510-DR-P